FEDERAL EMERGENCY MANAGEMENT AGENCY

44 CFR Part 65

[Docket No. FEMA-7316]

Changes in Flood Elevation Determinations

AGENCY: Federal Emergency Management Agency (FEMA).

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) in effect prior to this determination for each listed community.

From the date of the second publication of these changes in a newspaper of local circulation, any person has ninety (90) days in which to request through the community that the Associate Director for Mitigation reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in base flood elevations are in accordance with 44 CFR 65.4.

National Environmental Policy Act

This rule is categorically excluded from the requirements of 44 CFR Part 10, Environmental Consideration. No environmental impact assessment has been prepared.

Regulatory Flexibility Act

The Associate Director for Mitigation certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
California:
Santa Clara | City of Milpitas | December 3, 1999, December 10, 1999, San Jose Mercury News | The Honorable Henry Manayan, Mayor, City of Milpitas, 455 East Calaveras Boulevard, Milpitas, California 95035 | November 2, 1999 | 060344
Sacramento | City of Sacramento | December 21, 1999, December 28, 1999, Sacramento Bee | The Honorable Joe Serna, Mayor, City of Sacramento, City Hall, 9151 I Street, Room 205, Sacramento, California 95814 | November 24, 1999 | 060266
Sacramento | Unincorporated Areas | December 15, 1999, December 22, 1999, Sacramento Bee | The Honorable Muriel Johnson, Chairperson, Sacramento County Board of Supervisors, 700 H Street, Room 2450, Sacramento, California 95814 | March 21, 2000 | 060262
Sacramento | Unincorporated Areas | December 21, 1999, December 28, 1999, Sacramento Bee | The Honorable Muriel Johnson, Chairperson, Sacramento County Board of Supervisors, 700 H Street, Room 2450, Sacramento, California 95814 | November 24, 1999 | 060262
Colorado:
Boulder | City of Boulder | December 9, 1999, December 16, 1999, Daily Camera | The Honorable Robert D. Greenlee, Mayor, City of Boulder, P.O. Box 791, Boulder, Colorado 80306 | November 9, 1999 | 080024
Kansas:
Butler | Unincorporated Areas | November 26, 1999, December 3, 1999, El Dorado Times | The Honorable Linsey Cutsinger, Butler County Commissioner Chair, Butler County Courthouse, 205 West Central Avenue, Fourth Floor, El Dorado, Kansas 67042 | March 2, 2000 | 200037
Missouri:
St. Louis | City of Chesterfield | December 14, 1999, December 21, 1999, St. Louis Countian | The Honorable Nancy Greenwood, Mayor, City of Chesterfield, 16052 Swingley Ridge Road, Suite 100, Chesterfield, Missouri 63017 | November 24, 1999 | 290896
Clay | Unincorporated Areas | December 16, 1999, December 23, 1999, Kearney Courier | The Honorable Thomas M. Brandon, Commissioner, Clay County, Courthouse Square, Liberty, Missouri 64068 | March 22, 2000 | 290068
Jackson | Unincorporated Areas | December 16, 1999, December 23, 1999, The Independence Examiner | The Honorable Katheryn Shields, County Executive, Jackson County Courthouse, 415 East 12th Street, Kansas City, Missouri 64106 | March 22, 2000 | 290492
Ray | Unincorporated Areas | December 16, 1999, December 23, 1999, Daily News | The Honorable William Edgar, Commissioner, Ray County, 100 West Main Street, Richmond, Missouri 64085 | March 22, 2000 | 290778
Nevada:
Clark | City of Las Vegas | December 8, 1999, December 15, 1999, Las Vegas Review Journal | The Honorable Oscar Goodman, Mayor, City of Las Vegas, 400 East Stewart Avenue, Las Vegas, Nevada 89101 | November 2, 1999 | 325276
Oregon:
Marion | Unincorporated Areas | December 2, 1999, December 9, 1999, Statesman Journal | The Honorable Patti Milne, Chairman, Marion County Board of Supervisors, County Courthouse, 100 High Street Northeast, Salem, Oregon 97301 | November 9, 1999 | 410154
Texas:
Collin | City of Allen | December 8, 1999, December 15, 1999, Allen American | The Honorable Steve Terrell, Mayor, City of Allen, One Butler Circle, Allen, Texas 75013 | November 2, 1999 | 480131
Tarrant | City of Arlington | December 3, 1999, December 10, 1999, Fort Worth Star-Telegram | The Honorable Elzie Odom, Mayor, City of Arlington, P.O. Box 231, Arlington, Texas 76004-0231 | November 3, 1999 | 485454
Denton | Town of Copper Canyon | December 22, 1999, December 29, 1999, Lewisville News | The Honorable Thomas A. Rogers, Mayor, Town of Copper Canyon, City Hall, 400 Woodland Drive, Copper Canyon, Texas 75067-8501 | March 28, 2000 | 481508
Dallas | City of Dallas | November 30, 1999, December 7, 1999, Dallas Morning News | The Honorable Ronald Kirk, Mayor, City of Dallas, City Hall, 1500 Marilla Street, Room 5EN, Dallas, Texas 75201 | November 1, 1999 | 480171
Denton | Town of Flower Mound | December 22, 1999, December 29, 1999, Lewisvillle News | The Honorable Lori DeLuca, Mayor, Town of Flower Mound, Town Hall, 2121 Cross Timbers Drive, Flower Mound, Texas 75028 | November 29, 1999 | 480777
Denton | City of Highland Village | December 22, 1999, December 29, 1999, Lewisville News | The Honorable Austin Adams, Mayor, City of Highland Village, City Hall, 1800 FM 407, Highland, Texas 75077 | March 28, 2000 | 481105
Montgomery | Unincorporated Areas | December 20, 1999, December 27, 1999, Conroe Courier | The Honorable Alan Sadler, Montgomery County Judge, 301 North Thompson Street, Suite 210, Conroe, Texas 777301 | November 29, 1999 | 480483
Hays | City of San Marcos | November 26, 1999, December 3, 1999, San Marcos Daily Record | The Honorable Billy Moore, Mayor, City of San Marcos, City Hall, 630 East Hopkins Street, San Marcos, Texas 78666 | March 2, 2000 | 485505
Fort Bend | Unincorporated Areas | December 15, 1999, December 22, 1999, Herald Coaster | The Honorable James C. Adolphus, Fort Bend County Judge, 301 Jackson Street, Suite 719, Richmond, Texas 77469 | November 5, 1999 | 480228
Collin | City of Frisco | December 3, 1999, December 10, 1999, Frisco Enterprise | The Honorable Kathy Seei, Mayor, City of Frisco, P.O. Box 1100, Frisco, Texas 75034 | March 9, 2000 | 480134
Dallas | City of Garland | November 18, 1999, November 25, 1999, Garland News | The Honorable Jim Spence, Mayor, City of Garland, 200 North Fifth Street, Garland, Texas 75040 | October 12, 1999 | 485471
Dallas | City of Garland | November 18, 1999, November 25, 1999, Garland News | The Honorable Jim Spence, Mayor, City of Garland, P.O. Box 469002, Garland, Texas 75046-9002 | February 23, 2000 | 485471
Cameron | Town of South Padre Island | November 18, 1999, November 25, 1999, Port Isable and South Padre Press | The Honorable Edmund Cyganiewicz, Mayor, Town of South Padre Island, 4501 Padre Boulevard, South Padre Island, Texas 78597 | October 12, 1999 | 480115
Utah:
Davis | Unincorporated Areas | December 2, 1999, December 9, 1999, Davis County Clipper | The Honorable Dannie McConkie, Chairman, Davis County Board of Supervisors, P.O. Box 618, Farmington, Utah 84025 | October 26, 1999 | 490038
Davis | City of Kaysville | December 2, 1999, December 9, 1999, Davis County Clipper | The Honorable Brian Cook, Mayor, City of Kaysville, 23 East Center Street, Kaysville, Utah 84037 | October 26, 1999 | 490046

(Catalog of Federal Domestic Assistance No. 83.100, “Flood Insurance.”)

Dated: January 28, 2000.
Michael J. Armstrong,
Associate Director for Mitigation.

[FR Doc. 00-2803 Filed 2-7-00; 8:45 am]

BILLING CODE 6718-04-P